SMALL BUSINESS ADMINISTRATION

[Disaster Declaration #10515 and #10516]

Pennsylvania Disaster Number PA-00004

AGENCY: U.S. Small Business Administration.

ACTION: Amendment 2.

SUMMARY: This is an amendment of the Presidential declaration of a major disaster for the Commonwealth of Pennsylvania (FEMA-1649-DR), dated July 4, 2006.

Incident: Severe Storms, Flooding, and Mudslides.

Incident Period: June 23, 2006 and continuing.

Effective Date: July 6, 2006.

Physical Loan Application Deadline Date: September 5, 2006.

EIDL Loan Application Deadline Date: April 4, 2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, Suite 6050, Washington, DC 20416

SUPPLEMENTARY INFORMATION: The notice of the Presidential disaster declaration for the Commonwealth of Pennsylvania, dated July 4, 2006 is hereby amended to include the following areas as adversely affected by the disaster:

Primary Counties:

Montgomery, Franklin, Bucks, Columbia, Northampton.

Contiguous Counties:

Maryland: Frederick, Washington.

New Jersey: Burlington, Hunterdon, Mercer.

Pennsylvania: Adams, Cumberland, Fulton, Huntingdon, Juniata, Lycoming, Montour, Perry, Philadelphia.

All other information in the original declaration remains unchanged.

(Catalog of Federal Domestic Assistance Number 59002 and 59008)

Roger B. Garland,
Acting Associate Administrator for Disaster Assistance.

[FR Doc. E6-11316 Filed 7-17-06; 8:45 am]

BILLING CODE 8025-01-P